DEPARTMENT OF ENERGY

Notice of Intent To Prepare the Tank Closure and Waste Management Environmental Impact Statement for the Hanford Site, Richland, WA

AGENCY: Department of Energy.

ACTION: Notice of intent.

SUMMARY: The U.S. Department of Energy (DOE) announces its intent to prepare a new environmental impact statement (EIS) for its Hanford Site (Hanford) near Richland, Washington, pursuant to the National Environmental Policy Act of 1969 (NEPA) and its implementing regulations at 40 CFR Parts 1500-1508 and 10 CFR Part 1021. The new EIS, to be titled the Tank Closure and Waste Management Environmental Impact Statement for the Hanford Site, Richland, Washington (TC & WM EIS), will implement a Settlement Agreement announced on January 9, 2006, among DOE, the Washington State Department of Ecology (Ecology) and the State of Washington Attorney General's office. The Agreement serves as settlement of NEPA claims in the case State of Washington v. Bodman (Civil No. 2:03-cv-05018-AAM), which addressed the Final Hanford Site Solid (Radioactive and Hazardous) Waste Program EIS, Richland, Washington (HSW EIS, DOE/EIS-0286, January 2004).

Ecology will continue its role as a Cooperating Agency in the preparation of the TC & WM EIS. Ecology already was acting in that capacity during the ongoing preparation of the EIS for Retrieval, Treatment and Disposal of Tank Waste and Closure of the Single-Shell Tanks at the Hanford Site, Richland, Washington (TC EIS, DOE/EIS-0356, Notice of Intent [NOI] at 68 FR 1052, January 8, 2003). The TC & WM EIS will revise, update and reanalyze groundwater impacts previously addressed in the HSW EIS. That is, the TC & WM EIS will provide a single, integrated analysis of groundwater at Hanford for all waste types addressed in the HSW EIS and the TC EIS. As a result, the TC & WM EIS will include a reanalysis of onsite disposal alternatives for Hanford's low-level radioactive waste (LLW) and mixed low-level radioactive waste (MLLW) and LLW and MLLW from other DOE sites. The TC & WM EIS will revise and update other potential impact areas previously addressed in the HSW EIS as appropriate. Finally, the TC & WM EIS will incorporate existing analyses from the HSW EIS that do not affect and are not directly affected by the waste disposal alternatives after review or revision as appropriate. DOE will continue its ongoing analysis of alternatives for the retrieval, treatment, storage, and disposal of underground tank wastes and closure of underground single-shell tanks (SST). In addition, DOE plans to include the ongoing Fast Flux Test Facility Decommissioning EIS (FFTF EIS, DOE/EIS-0364, NOI at 69 FR 50178, August 13, 2004) in the scope of the new TC & WM EIS, in order to provide an integrated presentation of currently foreseeable activities related to waste management and cleanup at Hanford.

In accordance with the Settlement Agreement, DOE will not ship offsite waste to Hanford for storage, processing, or disposal until a Record of Decision (ROD) is issued pursuant to the TC & WM EIS, except under certain limited exemptions as provided in the Settlement Agreement.

DOE is soliciting comments on the proposed scope of the new TC & WM EIS. Comments previously submitted in response to the 2003 NOI for the TC EIS and the 2004 NOI for the FFTF EIS are being considered and need not be resubmitted.

DATES: DOE invites Federal agencies, American Indian tribal nations, state and local governments, and the public to comment on the scope of the planned TC & WM EIS. DOE will consider all comments received by March 6, 2006, as well as comments received after that date to the extent practicable. DOE plans to hold public meetings at the following locations:

Hood River, Oregon; February 21, 2006.

Portland, Oregon; February 22, 2006.

Seattle, Washington; February 23, 2006.

Richland, Washington, February 28, 2006.

The public meetings will address the scope of the planned TC & WM EIS. DOE will provide additional notification of the meeting times and locations through newspaper advertisements and other appropriate media.

ADDRESSES: To submit comments on the scope of the TC & WM EIS or to request copies of the references listed herein, including references listed in Appendix A, contact: Mary Beth Burandt, Document Manager, Office of River Protection, U.S. Department of Energy, Post Office Box 450, Mail Stop H6-60, Richland, WA 99352. Electronic mail: TC&WMEIS@saic.com. Fax: 509-376-3661. Telephone and voice mail: 509-373-9160.

FOR FURTHER INFORMATION CONTACT: For information on DOE's NEPA process, contact: Carol Borgstrom, Director, Office of NEPA Policy and Compliance (EH-42), U.S. Department of Energy, 1000 Independence Avenue, SW., Washington, DC 20585. Telephone 202-586-4600, or leave a message at 1-800-472-2756.

This NOI will be available on DOE's NEPA Web site at http://www.eh.doe.gov/nepa and the TC & WM EIS Web site at http://www.hanford.gov/orp/ (click on Public Involvement).

SUPPLEMENTARY INFORMATION:

I. Background

The Hanford Site is located in southeastern Washington State along the Columbia River, and is approximately 586 square miles in size. Hanford's mission included defense-related nuclear research, development, and weapons production activities from the early 1940s to approximately 1989. During that period, Hanford operated a plutonium production complex with nine nuclear reactors and associated processing facilities. These activities created a wide variety of chemical and radioactive wastes. Hanford's mission now is focused on the cleanup of those wastes and ultimate closure of Hanford. To this end, DOE manages several types of radioactive wastes at Hanford: (1) High-level radioactive waste (HLW) as defined under the Nuclear Waste Policy Act [42 U.S.C. 10101]; (2) transuranic (TRU) waste, which is waste containing alpha-particle-emitting radionuclides with atomic numbers greater than uranium (i.e., 92) and half-lives greater than 20 years in concentrations greater than 100 nanocuries per gram of waste; (3) LLW, which is radioactive waste that is neither HLW nor TRU waste; and (4) MLLW, which is LLW containing hazardous constituents as defined under the Resource Conservation and Recovery Act of 1976 (RCRA, 42 U.S.C. 6901 et seq.).

At present, DOE is constructing a Waste Treatment Plant (WTP) in the 200-East Area of the site. The WTP will separate waste stored in Hanford's underground tanks into HLW and low-activity waste (LAW) fractions. HLW will be treated in the WTP and stored at Hanford until it can be shipped to the proposed repository at Yucca Mountain, Nevada. Immobilized LAW waste would be treated in the WTP and disposed of at Hanford as decided in the ROD issued in 1997 (62 FR 8693), pursuant to the Tank Waste Remediation System, Hanford Site, Richland, Washington, Final EIS (TWRS EIS, DOE/EIS-0189, August 1996). DOE is processing Hanford's contact-handled TRU waste (which does not require special protective shielding) for shipment to the Waste Isolation Pilot Plant (WIPP) near Carlsbad, New Mexico, consistent with the 1998 RODs (63 FR 3624 and 63 FR 3629) for treatment and disposal of TRU waste under the Final Waste Management Programmatic EIS for Managing Treatment, Storage, and Disposal of Radioactive and Hazardous Waste (WM PEIS, DOE/EIS-0200) and the Waste Isolation Pilot Plant Disposal Phase Final Supplemental Environmental Impact Statement (WIPP SEIS-II, DOE/EIS-0026-S-2, September 1997). DOE is disposing of Hanford's LLW and MLLW onsite, consistent with the ROD for treatment and disposal of these wastes under the WM PEIS (65 FR 10061). This ROD also designates Hanford as a regional disposal site for LLW and MLLW from other DOE sites.

In January 2003, DOE issued an NOI (68 FR 1052) to prepare the TC EIS (DOE/EIS-0356). The proposed scope of the TC EIS included closure of the 149 underground SSTs and newly available information on supplemental treatment for the LAW from all 177 tanks, which contain a total of approximately 53 million gallons of waste.

In March 2003, Ecology initiated litigation on issues related to importation, treatment, and disposal of radioactive and hazardous waste generated offsite as a result of nuclear defense and research activities. The Court enjoined shipment of offsite TRU waste to Hanford for processing and storage pending shipment to WIPP.

In January 2004, DOE issued the HSW EIS and a ROD (69 FR 39449), which addressed ongoing solid waste management operations, and announced DOE's decision to dispose of Hanford and a limited volume of offsite LLW and MLLW in a new Integrated Disposal Facility in the 200-East Area of Hanford. DOE also decided to continue sending Hanford's MLLW offsite for treatment and to modify Hanford's T-Plant for processing remote-handled TRU waste and MLLW (which require protective shielding).

Ecology amended its March 2003 complaint in 2004, challenging the adequacy of the HSW EIS analysis of offsite waste importation. In May 2005, the Court granted a limited discovery period, continuing the injunction against shipping offsite wastes to Hanford, including LLW and MLLW (State of Washington v. Bodman [Civil No. 2:03-cv-05018-AAM]). In July 2005, while preparing responses to discovery requests from Ecology, Battelle Memorial Institute, DOE's contractor who assisted in preparing the HSW EIS, advised DOE of several differences in groundwater analyses between the HSW EIS and its underlying data.

DOE promptly notified the Court and the State and, in September 2005, convened a team of DOE experts in quality assurance and groundwater analysis, as well as transportation and human health and safety impacts analysis, to conduct a quality assurance review of the HSW EIS. The team completed its Report of the Review of the Hanford Solid Waste Environmental Impact Statement (EIS) Data Quality, Control and Management Issues, January 2006 (hereafter referred to as the Quality Review).

Because both Ecology and DOE have a shared interest in the effective cleanup of Hanford, DOE and Ecology announced a Settlement Agreement ending the NEPA litigation on January 9, 2006. The Agreement is intended to resolve Ecology's concerns about HSW EIS groundwater analyses and to address other concerns about the HSW EIS, including those identified in the Quality Review.

The Agreement calls for an expansion of the TC EIS to provide a single, integrated set of analyses that will include all waste types analyzed in the HSW EIS (LLW, MLLW, and TRU waste). The expanded EIS will be renamed the TC & WM EIS. Pending finalization of the TC & WM EIS, the HSW EIS will remain in effect to support ongoing waste management activities at Hanford (including transportation of TRU waste to WIPP) in accordance with applicable regulatory requirements. The Agreement also stipulates that when the TC & WM EIS has been completed, it will supersede the HSW EIS. Until that time, DOE will not rely on HSW EIS groundwater analyses for decision-making, and DOE will not import offsite waste to Hanford, with certain limited exemptions as specified in the Agreement.

DOE and Ecology have mutual responsibilities for accomplishing cleanup of Hanford, as well as continuing ongoing waste management activities consistent with applicable Federal and state laws and regulations. The Hanford Federal Facility Agreement and Consent Order (also called the Tri-Party Agreement [TPA]) among the state, DOE, and the U.S. Environmental Protection Agency (EPA) contains various enforceable milestones that apply to waste management activities. DOE also is required to comply with applicable requirements of RCRA and the state's Hazardous Waste Management Act of 1976 as amended (Chapter 70.105 Revised Code of Washington). To carry out proposals for future actions and obtain necessary permits, each agency must comply with the applicable provisions of NEPA and the Washington State Environmental Policy Act (SEPA) respectively. The agencies have revised their Memorandum of Understanding for the TC EIS (effective March 25, 2003), which identified Ecology as a Cooperating Agency in the preparation of the TC EIS. The Memorandum of Understanding revision is consistent with the Settlement Agreement and provides for Ecology's continuing participation as a Cooperating Agency in preparation of the TC & WM EIS to assist both agencies in meeting their respective responsibilities under NEPA and SEPA.

II. Purpose and Need for Action

Recognizing the potential risks to human health and the environment from Hanford tank wastes, DOE needs to retrieve waste from the 149 SSTs and 28 double-shell tanks (DST), treat and dispose of the waste, and close the SST farms in a manner that complies with Federal and Washington State requirements. Some waste from tanks and LLW and MLLW from Hanford and other DOE sites that do not have appropriate facilities must be disposed of to facilitate cleanup of Hanford and these sites.

III. Proposed Action

DOE proposes to retrieve and treat waste from 177 underground tanks and ancillary equipment and dispose of this waste in compliance with applicable regulatory requirements. Vitrified HLW waste would be stored onsite until it can be disposed of in the proposed repository at Yucca Mountain. DOE proposes to provide additional treatment capacity for the tank LAW that can supplement the planned WTP capacity in fulfillment of DOE's obligations under the TPA in as timely a manner as possible. DOE would dispose of Hanford's immobilized LAW, LLW and MLLW, and LLW and MLLW from other DOE sites, in lined trenches onsite. These trenches would be closed in accordance with applicable regulatory requirements.

DOE also proposes to complete the final decontamination and decommissioning of the FFTF. DOE decided, in January 2001, (ROD at 66 FR 7877) that the permanent closure of FFTF was to be resumed with no new missions, based on the Final Programmatic Environmental Impact Statement for Accomplishing Expanded Civilian Nuclear Energy Research and Development and Isotope Production Missions in the United States, Including the Role of the Fast Flux Test Facility (DOE/EIS-0310, December 2000).

IV. Proposed Scope of the TC & WM EIS

In accordance with the Settlement Agreement, DOE intends to prepare a single, comprehensive EIS addressing tank waste retrieval, treatment, storage, and disposal; tank closure; and management of all waste types analyzed in the HSW EIS as an integrated document for public and agency review and reference. The TC & WM EIS will update, revise, or reanalyze resource areas (such as groundwater and transportation) from the HSW EIS as necessary to make them current and reflect the waste inventories and analytical assumptions being used for environmental impact assessment in the TC & WM EIS. All updated analyses would be included in the revised quantitative groundwater and other cumulative impact analyses in the TC & WM EIS.

The proposed scope of the TC & WM EIS includes alternatives for onsite disposal of LLW, MLLW, and LAW; transportation of offsite LLW and MLLW to Hanford for disposal; and current or revised information for ongoing operations, such as those involving Hanford's Central Waste Complex, that were included in the HSW EIS.

DOE proposes to retain all of the scope identified in the 2003 NOI for the TC EIS as modified by public scoping comments. Proposed modifications to the alternatives identified in the 2003 NOI are provided in Section VI. That is, the new TC & WM EIS would address management of the approximately 53 million gallons of waste stored in 149 underground SSTs (ranging in capacity from approximately 55,000 to 1 million gallons) and 28 underground DSTs (ranging in capacity from approximately 1 to 1.16 million gallons) grouped in 18 tank farms, and approximately 60 smaller miscellaneous underground storage tanks, along with ancillary equipment.

DOE proposes to retain all of the scope identified in its August 2004 NOI to evaluate alternatives for the final disposition of the FFTF and proposes to integrate that scope into the TC & WM EIS. The TC & WM EIS will thus provide an integrated presentation of currently foreseeable activities related to waste management and cleanup at Hanford.

V. Potential Decisions To Be Made

DOE plans to make decisions on the following topics.

• Retrieval of Tank Waste—A reasonable waste retrieval range is comprised of three levels: 90 percent, 99 percent, and 99.9 percent. The 99 percent retrieval is the goal established by the TPA (Milestone M-45-00); 90 percent retrieval evaluates a risk analysis of the tank farms as defined in the M-45-00, Appendix H, process; and 99.9 percent retrieval reflects uses of multiple retrieval technologies to support clean closure of the tank farms.

• Treatment of Tank Waste—WTP waste treatment capability can be augmented by supplemental treatment technologies and constructing new treatment facilities that are part of, or separate from, the WTP. The two primary choices that could fulfill DOE's TPA commitments are to treat all waste in an expanded WTP or provide supplemental treatment to be used in conjunction with, but separate from, the WTP. DOE has conducted preliminary tests on three supplemental treatment technologies—cast stone (a form of grout), steam reforming, and bulk vitrification—to determine if one or more could be used to provide the additional, supplemental waste treatment capability needed to complete waste treatment.

• Disposal of Treated Tank Waste—Onsite disposal includes treated tank waste such as immobilized LAW and waste generated from closure activities that meets onsite disposal criteria; the decision to be made involves the onsite location of disposal facilities. Decisions to be made related to offsite disposal include the length of time and facilities required for storage of immobilized high-level radioactive waste (IHLW) prior to disposal at the proposed Yucca Mountain repository.

• Storage of Tank Waste—Depending on the alternative being analyzed, storing tank waste for different lengths of time may be necessary. This may require the construction, operation, and deactivation of waste transfer infrastructures, including waste receiver facilities (below-grade lag storage and minimal waste treatment facilities), waste transfer line upgrades, and new or replacement DSTs. Also depending on the alternative, construction and operation of additional immobilized HLW storage vaults, melter pads, and TRU waste storage facilities needed to store treated tank waste.

• Closure of SSTs—Decisions to be made include closing the SSTs by clean closure, selective clean closure/landfill closure, and landfill closure with or without any soil contamination removal. Decisions regarding barriers (engineered modified RCRA Subtitle C barrier or Hanford barrier) to prevent water intrusion will be made. A closure configuration for the original 28 DSTs will be evaluated in the TC & WM EIS for engineering reasons related to barrier placement for the SSTs. This evaluation also is provided to aid Ecology in evaluating the impacts which might result in closing DSTs to a debris rule standard. However, DOE is deferring a decision on closure of DSTs and decommissioning of the WTP until a later date when the mission for those facilities is nearing completion.

• Disposal of Hanford's and DOE Offsite LLW and MLLW—The decision to be made concerns the onsite location of disposal facilities for Hanford's waste and other DOE sites' LLW and MLLW. DOE committed in the HSW EIS ROD that henceforth LLW would be disposed of in lined trenches. Thus, the decision would concern whether to dispose of the waste in the 200-West Area or at the Integrated Disposal Facility in the 200-East Area.

• Final Decontamination and Decommissioning of the FFTF—The decision would identify the final end state for the above-ground, below-ground, and ancillary support structures.

VI. Potential Range of Alternatives

Six alternatives were originally proposed for TC EIS and are listed below. The initial scope of the TC EIS was provided in the January 2003 NOI and at each public scoping meeting.

• No Action Alternative, which was to implement the 1997 TWRS EIS ROD;

• Implement the 1997 TWRS EIS ROD with Modifications;

• Landfill Closure of Tank Farms/Onsite and Offsite Waste Disposal;

• Clean Closure of Tank Farms/Onsite and Offsite Waste Disposal;

• Accelerated Landfill Closure/Onsite and Offsite Waste Disposal; and

• Landfill Closure/Onsite and Offsite Waste Disposal.

Onsite disposal would include immobilized LAW, LLW, and MLLW resulting from tank retrieval and treatment. Offsite disposal of HLW would occur at Yucca Mountain. No determination has been made as to whether any of the tanks contain TRU waste. If it is determined that any tank waste is TRU waste, offsite disposal at WIPP would be appropriate, provided the required approvals from EPA and the New Mexico Environment Department were obtained.

As a result of the 2003 scoping for the TC EIS, a number of changes are being made to those identified in the NOI. The major changes are:

• The No Action Alternative was modified to address a traditional “no action” rather than the action from the TWRS EIS ROD;

• The alternative addressing implementation of the 1997 TWRS EIS ROD was modified to address both the currently planned vitrification capacity and the currently planned capacity supplemented with additional vitrification capacity as the supplemental treatment;

• A partial tank removal option was added, which analyzes leaving some of the SSTs in place and exhuming the SSTs completely in the SX and BX tank farms;

• The Landfill Closure of Tank Farms/Onsite and Offsite Waste Disposal Alternative has been modified to more clearly evaluate the No Separations (of HLW and LAW waste) with Onsite Storage and Offsite Disposal Alternative; and

• A suboption has been added to both the All Vitrification with Separations and All Vitrification/No Separations (of HLW and LAW waste) Alternatives to address closure of the cribs and trenches proximal to tanks within identified waste management areas in place as opposed to removing them.

For Hanford and offsite LLW and MLLW analyzed in the HSW EIS, DOE proposes to simplify the alternatives. Both waste types would be disposed of in lined trenches. DOE plans to update the volumes to be disposed of, approximating those volumes for offsite waste in the 2004 HSW EIS ROD, and to update the waste information. DOE also intends to update the transportation analysis of shipping offsite waste to Hanford for disposal. The onsite disposal alternatives are:

• Construction of a new disposal facility in the 200-West Area burial grounds; and

• Construction of new LLW and MLLW capacity in the Integrated Disposal Facility in the 200-East Area.

For the FFTF, the 2004 NOI identified three alternatives as listed below.

• No Action—actions consistent with previous DOE NEPA decisions would be completed; final decommissioning would not occur.

• Entombment—above-ground structures would be decontaminated and dismantled, below-ground structures would be grouted and left in place.

• Removal—above-ground structures would be decontaminated and dismantled, below-ground structures would be removed and disposed of at Hanford.

VII. Potential Environmental Issues for Analysis

The following issues have been tentatively identified for analysis in the TC & WM EIS. This list is presented to facilitate comment on the scope of the TC & WM EIS, but is not intended to be all-inclusive or to predetermine potential impacts of any alternative.

• Effects on the public and onsite workers of radiological and nonradiological material releases during normal operations and reasonably foreseeable accidents;

• Long-term risks to human populations resulting from waste disposal and residual tank system wastes;

• Effects on air and water quality of normal operations and reasonably foreseeable accidents, including long-term impacts on groundwater;

• Cumulative effects, including impacts of other past, present, and reasonably foreseeable actions at Hanford, including past discharges to cribs and trenches, groundwater remediation activities, activities subject to TPA requirements and cleanup activities under the Comprehensive Environmental Response, Compensation, and Liability Act;

• Effects on endangered species, archaeological/cultural/historical sites, floodplains and wetlands, and priority habitat;

• Effects of on- and offsite transportation and of reasonably foreseeable transportation accidents; and

• Socioeconomic impacts on surrounding communities.

VIII. Public Scoping

DOE invites Federal agencies, American Indian tribal nations, state and local governments, and the general public to comment on the scope of the planned TC & WM EIS. Information on the scoping comment period is provided in the DATES section above. Comments previously submitted in response to the 2003 NOI for the TC EIS and the 2004 NOI for the FFTF EIS are being considered and need not be resubmitted.

Issued in Washington, DC, on January 30, 2006.
John Spitaleri Shaw,
Assistant Secretary for Environment, Safety and Health.

Appendix A—Related National Environmental Policy Act Documents

45 FR 46155, 1980, “Double-Shell Tanks for Defense High-Level Radioactive Waste Storage, Hanford Site, Richland, Washington; Record of Decision,” Federal Register.

53 FR 12449, 1988, “Disposal of Hanford Defense High-Level, Transuranic, and Tank Wastes, Hanford Site, Richland, Washington; Record of Decision,” Federal Register.

60 FR 28680, 1995, “Programmatic Spent Nuclear Fuel Management and Idaho National Engineering Laboratory Environmental Restoration and Waste Management Program, Part III; Record of Decision,” Federal Register.

60 FR 54221, 1995, “Final Environmental Impact Statement for the Safe Interim Storage of Hanford Tank Wastes at the Hanford Site, Richland, Washington; Record of Decision,” Federal Register.

60 FR 61687, 1995, “Record of Decision; Safe Interim Storage of Hanford Tank Wastes, Hanford Site, Richland, Washington,” Federal Register.

61 FR 3922, 1996, “Availability of the Final Environmental Impact Statement for Management of Spent Nuclear Fuel from the K Basins at the Hanford Site, Richland, Washington; Notice of Availability of Final Environmental Impact Statement,” Federal Register.

61 FR 10736, 1996, “Management of Spent Nuclear Fuel from the K Basins at the Hanford Site, Richland, Washington; Record of Decision,” Federal Register.

62 FR 8693, 1997, “Record of Decision for the Tank Waste Remediation System, Hanford Site, Richland, Washington,” Federal Register.

63 FR 3624, 1998, “Record of Decision for the Department of Energy's Waste Isolation Pilot Plant Disposal Phase,” Federal Register.

63 FR 3629, 1998, “Record of Decision for the Department of Energy's Waste Management Program: Treatment and Storage of Transuranic Waste,” Federal Register.

65 FR 10061, 2000, “Record of Decision for the Department of Energy's Waste Management Program: Treatment and Disposal of Low-Level Waste and Mixed Low-Level Waste; Amendment to the Record of Decision for the Nevada Test Site,” Federal Register.

69 FR 39449, 2004, “Record of Decision for the Solid Waste Program, Hanford Site, Richland, Washington: Storage and Treatment of Low-Level Waste and Mixed Low-Level Waste; Disposal of Low-Level Waste and Mixed Low-Level Waste, and Storage, Processing, and Certification of Transuranic Waste for Shipment to the Waste Isolation Pilot Plant, Federal Register.

DOE/EA-0479, 1990, Collecting Crust Samples from Level Detectors in Tank SY-101 at the Hanford Site, U.S. Department of Energy, Richland, Washington.

DOE/EA-0495, 1991, Preparation of Crust Sampling of Tank 241-SY-101, U.S. Department of Energy, Richland, Washington.

DOE/EA-0511, 1991, Characterization of Tank 241-SY-101, U.S. Department of Energy, Richland, Washington.

DOE/EA-0581, 1991, Upgrading of the Ventilation System at the 241-SY Tank Farm, U.S. Department of Energy, Richland, Washington.

DOE/EA-0802, 1992, Tank 241-SY-101 Equipment Installation and Operation to Enhance Tank Safety, U.S. Department of Energy, Richland, Washington.

DOE/EA-0803, 1992, Proposed Pump Mixing Operations to Mitigate Episodic Gas Releases in Tank 241-SY-101, U.S. Department of Energy, Richland, Washington.

DOE/EA-0881, 1993, Tank 241-C-103 Organic Vapor and Liquid Characterization and Supporting Activities, U.S. Department of Energy, Richland, Washington.

DOE/EA-0933, 1995, Tank 241-C-106 Past Practice Sluicing Waste Retrieval, U.S. Department of Energy, Richland, Washington.

DOE/EA-0993, 1995, Shutdown of the Fast Flux Test Facility, Hanford Site, Richland, Washington and Finding of No Significant Impact.

DOE/EA-0981, 1995, Environmental Assessment—Solid Waste Retrieval Complex, Enhanced Radioactive and Mixed Waste Storage Facility, Infrastructure Upgrades, and Central Waste Support Complex, Hanford Site, Richland, Washington, U.S. Department of Energy, Richland Operations Office, Richland, Washington.

DOE/EA-1203, 1997, Trench 33 Widening in 218-W-5 Low-Level Burial Ground, U.S. Department of Energy, Richland, Washington.

DOE/EA-1276, 1999, Widening Trench 36 of the 218-E-12B Low-Level Burial Ground, U.S. Department of Energy, Richland, Washington.

DOE/EA-1405, 2002, Transuranic Waste Retrieval from the 218-W-4B and 218-W-4C Low-Level Burial Grounds, Hanford Site, Richland, Washington, Finding of No Significant Impact, U.S. Department of Energy, Richland, Washington.

DOE/EIS-0113, 1987, Final Environmental Impact Statement—Disposal of Hanford Defense High-Level, Transuranic, and Tank Wastes, Hanford Site, Richland, Washington, U.S. Department of Energy, Richland Operations Office, Richland, Washington.

DOE/EIS-0212, 1995, Safe Interim Storage of Hanford Tank Wastes—Final Environmental Impact Statement, U.S. Department of Energy, Richland Operations Office, Richland, Washington, and Washington State Department of Ecology, Olympia, Washington.

DOE/EIS-0189, 1996, Tank Waste Remediation System, Hanford Site, Richland, Washington, Final Environmental Impact Statement, U.S. Department of Energy, Richland Operations Office, Richland, Washington, and Washington State Department of Ecology, Olympia, Washington.

DOE/EIS-0189-SA1, 1997, Supplement Analysis for the Proposed Upgrades to the Tank Farm Ventilation, Instrumentation, and Electrical Systems under Project W-314 in Support of Tank Farm Restoration and Safe Operations, U.S. Department of Energy, Richland Operations Office, Richland, Washington.

DOE/EIS-0189-SA2, 1998, Supplement Analysis for the Tank Waste Remediation System, U.S. Department of Energy, Richland Operations Office, Richland, Washington.

DOE/EIS-0189-SA3, 2001, Supplement Analysis for the Tank Waste Remediation System, U.S. Department of Energy, Richland Operations Office, Richland, Washington.

DOE/EIS-0200, 1997, Final Waste Management Programmatic Environmental Impact Statement for Managing Treatment, Storage, and Disposal of Radioactive and Hazardous Waste, U.S. Department of Energy, Office of Environmental Management, Washington, DC.

DOE/EIS-0026-S-2, 1997, Waste Isolation Pilot Plant Disposal Phase Final Supplemental Environmental Impact Statement II, U.S. Department of Energy, Carlsbad, New Mexico.

DOE/EIS-0222, 1999, Final Hanford Comprehensive Land-Use Plan Environmental Impact Statement, U.S. Department of Energy, Richland Operations Office, Richland, Washington.

DOE/EIS-0310, 2000, Final Programmatic Environmental Impact Statement for Accomplishing Expanded Civilian Nuclear Energy Research and Development and Isotope Production Missions in the United States, Including the Role of the Fast Flux Test Facility.

DOE/EIS-0250, 2002, Final Environmental Impact Statement for a Geologic Repository for the Disposal of Spent Nuclear Fuel and High-Level Radioactive Waste at Yucca Mountain, Nye County, Nevada, U.S. Department of Energy, Office of Civilian Radioactive Waste Management, Yucca Mountain Site Characterization Office, North Las Vegas, Nevada.

DOE/EIS-0287, 2002, Idaho High-Level Waste and Facilities Disposition Final Environmental Impact Statement, U.S. Department of Energy, Idaho Operations Office, Idaho Falls, Idaho.

DOE/EIS-0286, 2004, Final Hanford Site Solid (Radioactive and Hazardous) Waste Program Environmental Impact Statement, Richland, Washington, U.S. Department of Energy, Richland Operations Office, Richland, Washington.

DOH Publication 320-031, 2004, Final Environmental Impact Statement—Commercial Low-Level Radioactive Waste Disposal Site, Richland, Washington, Washington State Department of Health, Olympia, Washington, and Washington State Department of Ecology, Olympia, Washington.

U.S. Department of Energy, 2006, Report of the Review of the Hanford Solid Waste Environmental Impact Statement (EIS) Data Quality, Control and Management Issues, Washington, DC.

[FR Doc. E6-1404 Filed 2-1-06; 8:45 am]

BILLING CODE 6450-01-P